DEPARTMENT OF VETERANS AFFAIRS

38 CFR Ch. 1

Unified Agenda of Federal Regulatory and Deregulatory Actions

AGENCY: Department of Veterans Affairs.

ACTION: Semiannual regulatory agenda.

SUMMARY: This Agenda announces the regulations that the Department of Veterans Affairs (VA) will have under development or review during the 12-month period beginning fall 2019. The purpose in publishing the Department's regulatory agenda is to allow all interested persons the opportunity to participate in VA's regulatory planning.

ADDRESSES: Interested persons are invited to comment on the entries listed in the agenda by contacting the individual agency contact listed for each entry or by writing to: Director, Regulations Management (00REG), Department of Veterans Affairs, 810 Vermont Avenue NW, Washington, DC 20420.

FOR FURTHER INFORMATION CONTACT: Michael Shores at (202) 461-4921 or Consuela Benjamin at (202) 461-5952.

SUPPLEMENTARY INFORMATION: This document is issued pursuant to Executive Order 12866 “Regulatory Planning and Review” (and implementing guidance) and the Regulatory Flexibility Act, which require that executive agencies semiannually publish in the Federal Register an agenda of regulations that they have under development or review. This edition of the Unified Agenda of Federal Regulatory and Deregulatory Actions includes The Regulatory Plan, which appears in both the online Unified Agenda and in part II of the Federal Register that includes the Unified Agenda. VA's Statement of Regulatory Priorities is included in the Plan.

Michael P. Shores,
Director, Office of Regulation Policy and Management.

Department of Veterans Affairs—Proposed Rule Stage
Sequence No. | Title | Regulation Identifier No.
327 | Change in Rates VA Pays for Special Modes of Transportation | 2900-AP89

DEPARTMENT OF VETERANS AFFAIRS (VA)

Veterans Health Administration

Proposed Rule Stage

327. Change in Rates VA Pays for Special Modes of Transportation

E.O. 13771 Designation: Fully or Partially Exempt.

Legal Authority: 38 U.S.C. 101; 38 U.S.C. 111; 38 U.S.C. 111A; E.O. 11302; E.O. 13520

Abstract: VA proposes to amend the implementing regulations at 38 CFR part 70 to implement the discretionary authority in 38 U.S.C. 111(b)(3)(C), as amended by Public Law 112-56, 112-154, and 114-58, which permits VA to pay the lesser of the actual charge for ambulance transportation or the amount determined by the fee schedule established under section 1834(l) of the Social Security Act (42 U.S.C. 1395m(l)), unless VA has entered into a contract for that transportation. Stated more plainly, VA would be able to pay the lesser of the actual charge for ambulance transportation or the amount determined by Centers for Medicaid and Medicare Services (CMS) fee schedules, unless VA has entered into a contract for ambulance transportation. Additionally, VA proposes to codify how it will pay vendors for two forms of non-emergent special mode of transportation services offered to veterans: wheelchair and stretcher van services.

Timetable:

Action | Date | FR Cite
NPRM | 01/00/20 |

Regulatory Flexibility Analysis Required: Yes.

Agency Contact: Mike Davis, Director Member Services (10NF), Department of Veterans Affairs, 810 Vermont Avenue NW, Washington, DC 20420, Phone: 404 828-5691, Email: mike.davis2@va.gov.

RIN: 2900-AP89

[FR Doc. 2019-26587 Filed 12-23-19; 8:45 am]

BILLING CODE 8320-01-P